DEPARTMENT OF JUSTICE

Office of Justice Programs

[OMB Number 1121-0197]

Agency Information Collection Activities: Proposed Collection; Comments Requested; Extension of a Currently Approved Collection With Changes; State Criminal Alien Assistance Program

ACTION: 30-day notice of information collection under review.

The Department of Justice, Office of Justice Programs (Bureau of Justice Assistance) will be submitting the following information collection request to the Office of Management and Budget (OMB) for review and clearance in accordance with emergency review procedures of the Paperwork Reduction Act of 1995. OMB approval has been requested by September 2003. The proposed information collection is published to obtain comments from the public and affected areas. Comments should be directed to OMB, Office of Information and Regulatory Affairs, Attention: Department of Justice Desk Officer (202) 395-6466, Washington, DC 20503.

All comments, and suggestions, or questions regarding additional information, to include obtaining a copy of the proposed information collection instrument with instructions, should be directed to M.A. Berry at (202) 353-8643, Bureau of Justice Assistance, Office of Justice Programs, 810 Seventh Street, Room 4223, Washington, DC 20531 or by e-mail at M.A.Berry@ojp.usdoj.gov.

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Maria Berry at 202-353-8643 or the DOJ Desk Officer at 202-395-3176.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected, and mechanical, or other technological collection techniques or other forms of information technology, e.g., permitting electronic submission of responses.

Overview of this information:

(1) Type of information collection: Extension of currently approved collection expire.

(2) The title of the form/collection: State Criminal Alien Assistance Program.

(3) The agency form number, if any, and the applicable component of the department sponsoring the collection. Bureau of Justice Assistance, Office of Justice Programs, United States Department of Justice.

(4) Affected public who will be asked or required to respond, as well as a brief abstract: Primary: Federal, State, and local public safety agencies. States and local units of general government including the 50 state governments, the District of Columbia, Guam, Puerto Rico, the U.S. Virgin Islands, and the more than 3,000 counties and cities with correctional facilities.

Abstract: In response to the Violent Crime Control and Law Enforcement Act of 1994 Section 130002(b) as amended in 1996, BJA administers the State Criminal Alien Assistance Program (SCAAP) with the Bureau of Immigration and Customs Enforcement (ICE), and the Department of Homeland Security (DHS). SCAAP provides Federal payments to States and localities that incurred correctional officer salary costs for incarcerating undocumented criminal aliens with at least one felony or two misdemeanor convictions for violations of state or local law, and who are incarcerated for at least 4 consecutive days during the designated reporting period and for the following correctional purposes;

Salaries for corrections officers;

Overtime costs;

Performance based bonuses;

Corrections work force recruitment and retention;

Construction of corrections facilities;

Training/education for offenders;

Training for corrections officers related to offender population management;

Consultants involved with offender population;

Medical and mental health services;

Vehicle rental/purchase for transport of offenders;

Prison Industries;

Pre-release/reentry programs;

Technology involving offender management/inter agency information sharing;

Disaster preparedness continuity of operations for corrections facilities.

Other: None.

(5) An estimate of the total number of respondents and the amount of time estimated for an average respondent to respond/reply. It is estimated that no more than 865 respondents will apply. Each application takes approximately 90 minutes to complete and is submitted once per year (annually).

If additional information is required, contact: Jerri Murray, Department Clearance Officer, Policy and Planning Staff, Justice Management Division, United States Department of Justice, 145 N Street, NE., Room 2E-808, Washington, DC 20530.

Jerri Murray,
Department Clearance Officer, PRA, United States Department of Justice.

[FR Doc. 2011-14725 Filed 6-14-11; 8:45 am]

BILLING CODE 4410-18-P